ENVIRONMENTAL PROTECTION AGENCY

[ER-FRL-9041-4]

Environmental Impact Statements; Notice of Availability

Responsible Agency: Office of Federal Activities, General Information (202) 564-5632 or https://www.epa.gov/nepa/.

Weekly receipt of Environmental Impact Statements

Filed 09/10/2018 Through 09/14/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180212, Final, USFS, IL, Cretaceous Hills Ecological Restoration Project, Review Period Ends: 10/22/2018, Contact: Leonard Pitcher 618-833-8576

EIS No. 20180213, Draft, BLM, NV, Rossi Mine Expansion Project, Comment Period Ends: 11/05/2018, Contact: Janice Stadelman 775-753-0346

EIS No. 20180214, Draft, FRA, MS, Port Bienville Railroad Draft Environmental Impact Statement, Comment Period Ends: 11/05/2018, Contact: Kevin Wright 202-493-0845

EIS No. 20180215, Draft, FERC, LA, Driftwood LNG Project Draft Environmental Impact Statement, Comment Period Ends: 11/05/2018, Contact: Kelley Munoz 202-502-6739

EIS No. 20180216, Draft Supplement, DOS, NE, Draft Supplemental Environmental Impact Statement Keystone XL Mainline Alternative Route, Comment Period Ends: 11/05/2018, Contact: Marko Velikonja 202-647-4828

EIS No. 20180217, Draft, BIA, CA, Draft Environmental Impact Statement, Tule River Indian Tribe—Fee-to-Trust and Eagle Mountain Casino Relocation Project, Comment Period Ends: 11/05/2018, Contact: Chad Broussard 916-978-6165

EIS No. 20180218, Draft Supplement, BR, CA, California WaterFix EIS EIR, Comment Period Ends: 11/05/2018, Contact: Brooke White 916-414-2402

EIS No. 20180219, Final, USACE, CA, Delta Islands and Levees Integrated Feasibility Study and Environmental Impact Study, Review Period Ends: 10/22/2018, Contact: Anne Baker 916-557-7277

Amended Notices

EIS No. 20180211, Final, NIGC, CA, ADOPTION—Wilton Rancheria, Review Period Ends: 10/15/2018, Contact: Austin Badger 202-632-7003. Revision to the FR Notice Published 9/14/2018: The National Indian Gaming Commission (NIGC) has adopted the U.S. Bureau of Indian Affairs Final EIS No. 20160300, filed 12/08/2016 with the EPA. NIGC was not a cooperating agency on this project. Therefore, recirculation of the document is necessary under Section 1506.3(b) of the CEQ Regulations.

Dated: September 17, 2018.
Robert Tomiak,
Director, Office of Federal Activities.

[FR Doc. 2018-20531 Filed 9-20-18; 8:45 am]

BILLING CODE 6560-50-P